DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of approval and availability of revision to the Final Revised Management Plan for the Old Woman Creek National Estuarine Research Reserve, 2000-2005.

SUMMARY: Notice is hereby given that the Estuarine Reserves Division, Office of Ocean and Coastal Resource Management, has approved the revised Management Plan for the Old Woman Creek National Estuarine Research Reserve (OWCNERR). The OWCNERR was designated in 1980 and has been operating under a Management Plan approved in 1983. Pursuant to section 315 of the Coastal Zone Management Act, 16 U.S.C. 1461, and section 921.33(c) of the implementing regulations, a state must revise its management plan at least every five years, or more often if necessary. This revision is Ohio's effort to comply with this requirement.

FOR FURTHER INFORMATION CONTACT: Nathalie Peter, OCRM, Estuarine Reserves Division, 1305 East-West Highway, 11th Floor (N/ORM5), Silver Spring, Maryland 20910. (301) 713-3155, Extension 119.

SUPPLEMENTARY INFORMATION: The Management Plan contains the program mission, goals and objectives of the OWCNERR and State Natural Preserve, and establishes policies that will protect the natural resources and ecological integrity of the reserve. It provides guidance for administration of the reserve's operation, management, research, education and public outreach for the next five years.

The Management Plan also describes the necessary elements of site ecological management: (1) To identify key natural resources; (2) to determine the appropriate level of human use for the sites and these resources; and (3) to foster their long-term protection.

The chief areas of concentration for the OWCNERR in the next five years are as follows:

1. Refining the OWCNERR Program, particularly in the areas of research and monitoring.

2. Encouraging community stewardship of the estuary, watershed and near-shore Lake Erie coast through an expanded outreach program.

3. Protecting the core estuaries area, through buffer land acquisition, conservation easements or cooperative agreements.

4. Improving the transfer of estuarine information between reserve programs (i.e. research, monitoring, education, and resource management) and external groups (e.g. local neighbors, regional decision-makers in the scientific, governmental and educational communities).

Copies of the document can be obtained from the Old Woman Creek National Estuarine Research Reserve, Department of Natural Resources, 2514 Cleveland Road, Huron, Ohio 44839. (419) 433-4601.

Dated: October 4, 2000.
Captain Ted Lillestolen,
Deputy Assistant Administrator for Ocean Services and Coastal Zone Management.

[FR Doc. 00-26449 Filed 10-13-00; 8:45 am]

BILLING CODE 3510-08-P